DEPARTMENT OF THE TREASURY

Internal Revenue Service

Agency Information Collection Activities: Comment Request for Burden Related to the Credit To Produce Electricity From Advanced Nuclear Power Facilities

AGENCY: Internal Revenue Service (IRS), Treasury.

ACTION: Notice of information collection and request for comments.

SUMMARY: In accordance with the Paperwork Reduction Act of 1995, the IRS is inviting comments on the information collection request outlined in this notice.

DATES: Written comments should be received on or before April 20, 2026 to be assured of consideration.

ADDRESSES: Direct all written comments and recommendations to Andrés Garcia, Internal Revenue Service, Room 6526, 1111 Constitution Avenue NW, Washington, DC 20224, or by email at pra.comments@irs.gov. Please include, “OMB Number: 1545-2000—Public Comment Request Notice” in the subject line of the message.

FOR FURTHER INFORMATION CONTACT: Requests for additional information or copies of this collection should be directed to Ronald J. Durbala, (202)-317-5746 or via email at RJoseph.Durbala@irs.gov.

SUPPLEMENTARY INFORMATION: The IRS, in accordance with the Paperwork Reduction Act of 1995 (PRA) (44 U.S.C. 3506(c)(2)(A)), provides the public and Federal agencies with an opportunity to comment on proposed, revised, and continuing collections of information. This helps the IRS assess its impact and minimize the burden of its information collection requirements. Comments submitted in response to this notice will be summarized and/or included in the request for OMB approval. All comments will become a matter of public record and be viewable on relevant websites. For this reason, please do not include in your comments information of a confidential nature, such as sensitive personal information.

Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Title: Section 45J Credit for Production of Electricity from Advanced Nuclear Power Facilities.

OMB Number: 1545-2000.

Document Number(s): Notice 2023-34.

Abstract: This notice provides a process for certain taxpayers to obtain an allocation of the unutilized national megawatt capacity limitation (NMCL) under § 45J of the Internal Revenue Code. The notice describes how certain taxpayers may transfer the credit. This information will be used to determine the portion of the unutilized NMCL to which a taxpayer is entitled and the potential credit amount. The likely respondents are corporations and partnerships.

Current Actions: There are no changes being made to the forms at this time.

Type of Review: Extension of a currently approved collection.

Affected Public: Business or other for-profit organizations and state, local or tribal governments.

Estimated Number of Respondents: 80.

Estimated Time per Respondent: 5 hrs., 4 min.

Estimated Total Annual Burden Hours: 406.

Dated: February 17, 2026.
Ronald J. Durbala,
Tax Analyst.

[FR Doc. 2026-03270 Filed 2-18-26; 8:45 am]

BILLING CODE 4831-GV-P